DEPARTMENT OF COMMERCE

National Oceanic and Atmospheric Administration

[RTID 0648-XB668]

Pacific Fishery Management Council; Public Meetings and Hearings

AGENCY: National Marine Fisheries Service (NMFS), National Oceanic and Atmospheric Administration (NOAA), Commerce.

ACTION: Notice of opportunities to submit public comments.

SUMMARY: The Pacific Fishery Management Council (Council) has begun its annual preseason management process for the 2022 ocean salmon fisheries off the U.S. West Coast. This notice informs the public of opportunities to provide comments on the development of 2022 ocean salmon management measures.

DATES: Written comments on the salmon management alternatives adopted by the Council at its March 2022 meeting, as described in its Preseason Report II, received electronically or in hard copy by 5 p.m. Pacific Time, April 5, 2022, will be considered in the Council's final recommendation for the 2022 management measures.

ADDRESSES: Documents will be available from the Pacific Fishery Management Council, 7700 NE Ambassador Place, Suite 101, Portland, OR 97220-1384, and will be posted on the Council's website at http://www.pcouncil.org. You may submit comments by any one of the following methods:

• Written comments should be sent electronically to Mr. Marc Gorelnik, Chair, Pacific Fishery Management Council, via the Council's e-Portal by visiting https://pfmc.psmfc.org.

• Electronic Submission: Submit all electronic public comments via the Federal e-Rulemaking Portal. Go to https://www.regulations.gov and enter NOAA-NMFS-2022-0001 in the Search box. Click on the “Comment” tab, complete the required fields, and enter or attach your comments. All personal identifying information (e.g., name, address, etc.), confidential business information, or otherwise sensitive information submitted voluntarily by the sender will be publicly accessible. NMFS and the Council will accept anonymous comments (enter “N/A” in the required fields if you wish to remain anonymous).

FOR FURTHER INFORMATION CONTACT: Ms. Robin Ehlke, Pacific Fishery Management Council, telephone: 503-820-2280. For information on submitting comments via the Federal e-Rulemaking portal, contact Shannon Penna, NMFS West Coast Region, telephone: 562-676-2148; email: shannon.penna@noaa.gov.

SUPPLEMENTARY INFORMATION: The Council has announced the schedule of reports, public meetings, and hearings for the 2022 ocean salmon fisheries on its website (http://www.pcouncil.org) and in the Federal Register (86 FR 70114, December 9, 2021). The Council will adopt alternatives for 2022 ocean salmon fisheries at its March 8-14, 2022, meeting which is tentatively scheduled to occur in person, in San Jose, CA. Details of this meeting are available on the Council's website (http://www.pcouncil.org). On March 22, 2022, “Preseason Report II—Proposed Alternatives and Environmental Assessment Part 2 for 2022 Ocean Salmon Fishery Regulations” is scheduled to be posted on the Council's website at http://www.pcouncil.org. The report will include a description of the salmon management alternatives and a summary of their biological and economic impacts. Public hearings will be held to receive comments on the proposed ocean salmon fishery management alternatives adopted by the Council. Written comments received at the public hearings and a summary of oral comments at the hearings will be provided to the Council at its April meeting.

All public hearings begin at 7 p.m. Public hearings focusing on Washington and California salmon fisheries will occur simultaneously on March 22, 2022, and the public hearing for Oregon salmon fisheries will occur on March 23, 2022. A summary of oral comments heard at the hearings will be provided to the Council at its April meeting. These public hearings are tentatively scheduled to occur in person, in the cities of Westport, Washington; Coos Bay, Oregon; and Eureka, California. Actual hearing venues or instructions for joining online hearings will be posted on the Council's website (http://www.pcouncil.org) in advance of the hearing dates.

Comments on the alternatives the Council adopts at its March 2022 meeting, and described in its Preseason Report II, may be submitted in writing or electronically as described under ADDRESSES, or verbally or in writing at any of the public hearings held on March 22-23, 2022, or at the Council's meeting, April 6-13, 2022, which is tentatively scheduled to occur in person, in Seattle, WA. Details of these meetings will be available on the Council's website (http://www.pcouncil.org) and will be published in the Federal Register. Written and electronically submitted comments must be received prior to the April 2022 Council meeting, in order to be included in the briefing book for the Council's April meeting, where they will be considered in the adoption of the Council's final recommendation for the 2022 salmon fishery management measures. All comments received accordingly will be reviewed and considered by the Pacific Council and NMFS.

Authority: 16 U.S.C. 1801 et seq.

Dated: January 26, 2022.
Ngagne Jafnar Gueye,
Acting Director, Office of Sustainable Fisheries, National Marine Fisheries Service.

[FR Doc. 2022-01913 Filed 1-28-22; 8:45 am]

BILLING CODE 3510-22-P